DEPARTMENT OF HOMELAND SECURITY

Coast Guard

33 CFR Part 165

[Docket No. USCG-2015-0224]

Safety Zones; Recurring Events in Captain of the Port Boston Zone; Charles River 1-Mile Swim

AGENCY: Coast Guard, DHS.

ACTION: Notice of enforcement of regulation.

SUMMARY: The Coast Guard will enforce the subject safety zone in the Captain of the Port Boston Zone on the specified date and time listed below. This action is necessary to ensure the protection of the maritime public and event participants from the hazards associated with this annual recurring event.

DATES: The subject safety zone will be enforced on June 6, 2015 from 7:30 a.m. to 9:30 a.m., instead of from 8:00 a.m. to 9:00 a.m. on the usual second Sunday in July.

FOR FURTHER INFORMATION CONTACT: If you have questions on this notice of enforcement, call or email Mr. Mark Cutter, Coast Guard Sector Boston Waterways Management Division, telephone 617-223-4000, email Mark.E.Cutter@uscg.mil.

SUPPLEMENTARY INFORMATION: The subject event is listed in Table 1 of 33 CFR 165.118 as enforced annually on the second Sunday in July, from 8:00 a.m. to 9:00 p.m. In 2015, it will be enforced on June 6, 2015.

Under the provisions of 33 CFR 165.118, no person or vessel, except for the safety vessels assisting with the event may enter the safety zone unless given permission from the COTP or the designated on-scene representative. The Coast Guard may be assisted by other Federal, State, or local law enforcement agencies in enforcing this regulation.

This notice of enforcement is issued under authority of 33 CFR 165.118 and 5 U.S.C. 552 (a). In addition to this notification in the Federal Register, the Coast Guard will provide mariners with advanced notification of enforcement periods via the Local Notice to Mariners and Broadcast Notice to Mariners. If the COTP determines that the regulated area need not be enforced for the full duration stated in this notice of enforcement, a Broadcast Notice to Mariners may be used to grant general permission to enter the regulated area.

Dated: April 22, 2015.
J.C. O'Connor, III,
Captain, U.S. Coast Guard, Captain of the Port Boston.

[FR Doc. 2015-11814 Filed 5-22-15; 8:45 am]

BILLING CODE 9110-04-P